DEPARTMENT OF AGRICULTURE

Forest Service

Notice of Meeting of the Colorado Recreation Resource Advisory Committee; Federal Lands Recreation Enhancement Act

AGENCY: Rocky Mountain Region, Forest Service, USDA.

ACTION: Meeting of the Colorado Recreation Resource Advisory Committee.

SUMMARY: The Colorado Recreation Resource Advisory Committee (RRAC) will meet by telephone conference call. The purpose of the meeting is to orient RRAC members and alternates to the laws, rules and regulations that pertain to the operation of the RRAC. No fee proposals will be discussed at this meeting.

DATES: The meeting will be held October 26, 2011, 10 a.m. to 3 p.m. MDT.

ADDRESS: The conference call access number and password to the meeting will be posted on the US Forest Service, Rocky Mountain Region, RRAC Web site at: http://www.fs.usda.gov/goto/r2/recreation/rac. Send written comments to Stephen Sherwood, Designated Federal Official for the Rocky Mountain Region and Colorado Recreation Resource Advisory Committee, 740 Simms Street Golden, CO 80401; ssherwood@fs.fed.us.

FOR FURTHER INFORMATION CONTACT: Stephen Sherwood, Designated Federal Official for the Rocky Mountain Region and Colorado Recreation Resource Advisory Committee at the above address.

SUPPLEMENTARY INFORMATION: The meeting is open to the public. The meeting agenda will be posted on the RRAC Web site at http://www.fs.usda.gov/goto/r2/recreation/rac.

Committee discussion is limited to Forest Service staff, Committee members and alternates. However, persons who wish to bring recreation fee matters to the attention of the Committee may file written statements with the Committee staff before or after the meeting. A public input session will be provided and individuals who made written requests by October 24, 2011 will have the opportunity to address the Committee at the meeting if time allows.

The RRAC is authorized by the Federal Land Recreation Enhancement Act, which was signed into law by President Bush in December 2004.

Dated: October 5, 2011.
Maribeth Gustafson,
Acting Regional Forester, Rocky Mountain Region.

[FR Doc. 2011-26425 Filed 10-12-11; 8:45 am]

BILLING CODE 3410-11-M